DEPARTMENT OF LABOR

Employment and Training Administration

[TA-W-83,010]

CTS Automotive LLC, a Subsidiary of CTS Corporation Including On-Site Leased Workers From Metro Staff and Aerotek Including Workers Whose Unemployment Insurance (UI) Wages Are Reported Through D&R Technology LLC, Carol Stream, Illinois; Amended Certification Regarding Eligibility To Apply for Worker Adjustment Assistance

In accordance with Section 223 of the Trade Act of 1974, as amended (“Act”), 19 U.S.C. 2273, the Department of Labor issued a Certification of Eligibility to Apply for Worker Adjustment Assistance on September 5, 2013, applicable to workers of CTS Automotive LLC, a subsidiary of CTS Corporation, including on-site leased workers from Metro Staff, Inc., and Aerotek, Carol Stream, Illinois. The workers are engaged in production of safety sensors for automobiles. The notice was published in the Federal Register on October 3, 2013(78 FR 61391).

At the request of Illinois State, the Department reviewed the certification for workers of the subject firm. New information from the company shows that some workers separated from employment at the Carol Stream, Illinois location had their wages reported through a separate unemployment insurance (UI) tax account under the name D&R Technology LLC.

Accordingly, the Department is amending this certification to include workers of the subject firm whose unemployment insurance (UI) wages are reported through D&R Technology LLC.

The intent of the Department's certification is to include all workers of the subject firm who were adversely affected by a shift in the production to a foreign country. The amended notice applicable to TA-W-83,010 is hereby issued as follows:

All workers of CTS Automotive LLC, a subsidiary of CTS Corporation including on-site leased workers of Metro Staff, Inc., and Aerotek, including workers whose unemployment insurance (UI) wages are reported through D&R Technology LLC, Carol Stream, Illinois, who became totally or partially separated from employment on or after August 20, 2012, through September 5, 2015, and all workers in the group threatened with total or partial separation from employment on date of certification through two years from the date of certification, are eligible to apply for adjustment assistance under Chapter 2 of Title II of the Trade Act of 1974, as amended.

Signed at Washington, DC, this 24th day of October 2013.
Michael W. Jaffe,
Certifying Officer, Office of Trade Adjustment Assistance.

[FR Doc. 2013-26499 Filed 11-5-13; 8:45 am]

BILLING CODE 4510-FN-P